SOCIAL SECURITY ADMINISTRATION

[Docket No. SSA-2013-0057]

Cost-of-Living Increases and Other Determinations for 2014; Correction

AGENCY: Social Security Administration.

ACTION: Notice; Correction.

SUMMARY: The Social Security Administration published a document in the Federal Register of November 5, 2013, concerning the cost-of-living increase in Social Security benefits effective December 2013. The document contains an incorrect number for the special minimum primary insurance amount (PIA) for 16 years of coverage.

FOR FURTHER INFORMATION CONTACT: Susan C. Kunkel, 410-965-3000.

Correction

In the Federal Register of November 5, 2013, in FR Doc. 2013-26569, on page 66414, in the second column, replace the “PIA” amount for “16 years of coverage” “$243.50” with the correct amount of “$243.60'.

Paul Kryglik,
Director, Office of Regulations and Reports Clearance.

[FR Doc. 2013-27023 Filed 11-12-13; 8:45 am]

BILLING CODE 4191-02-P